NATIONAL SCIENCE FOUNDATION

Proposal Review Panel for Computing & Communications Foundations; Notice of Meeting

In accordance with the Federal Advisory Committee Act (Pub. L. 92-463, as amended), the National Science Foundation announces the following meeting:

Name: Proposal Panel Review for Computing & Communications Foundations (1192).

Date/Time: July 1-3, 2008 7:30 a.m.-9:30 p.m.

Place: National Science Foundation, 4201 Wilson Boulevard, Arlington, VA 22230.

Type of Meeting: Partially-Closed.

Contact Person: Timothy Pinkston, National Science Foundation, 4201 Wilson Boulevard, Room 1115, Arlington, VA 22230. Telephone: (703) 292-8910.

Purpose of Meeting: To provide advice and recommendations concerning Expeditions in Computing proposals submitted to NSF for financial support.

Agenda

Tuesday, July 1

• 7:30 a.m.-11 a.m. Closed session—initial deliberation.

• 11 a.m.-12:30 p.m. Open session—Presentation of Proposal, Question and Answer Session.

• 12:30 p.m.-1 p.m. Break. Closed session—discussion and review.

• 1 p.m.-2 p.m. Lunch.

• 2 p.m.-3:30 p.m. Open session—Presentation of Proposal, Question and Answer Session.

• 3:30 p.m.-4 p.m. Break. Closed session—discussion and review panel meets.

• 4 p.m.-5:30 p.m. Open session—Presentation of Proposal. Question and Answer Session.

• 5:30 p.m.-9:30 p.m. Closed session—Discussion and review. Draft recommendations.

Wednesday, July 2

• 7:30 a.m.-8 a.m. Closed session—Review and discussion.

• 8 a.m.-9:30 a.m. Open session—Presentation of Proposal. Question and Answer Session.

• 9:30 a.m.-10 a.m. Break. Closed session—Discussion and review.

• 10 a.m.-11:30 a.m. Open session—Presentation of Proposal. Question and Answer Session.

• 11:30 a.m.-12 p.m. Break. Closed session—Discussion and review.

• 12 p.m.-1 p.m. Lunch.

• 1 p.m.-2:30 p.m. Open session—Presentation of Proposal. Question and Answer Session.

• 2:30 p.m.-3 p.m. Break. Closed session—Discussion and review.

• 3 p.m.-4:30 p.m. Open session—Presentation of Proposal. Question and Answer Session.

• 4:30 p.m.-9:30 p.m. Break. Closed session—Discussion and review, final evaluations and recommendations discussed and written.

Thursday, July 3

• 8 a.m.-4 p.m. Closed session—Deliberations, and evaluations and final recommendations written.

Reason for Closing: The proposals being reviewed include information of a proprietary or confidential nature, including technical information; financial data, such as salaries; and personal information concerning individuals associated with the proposals. These matters are exempt under 5 U.S.C. 552b(c), (4) and (6) of the Government in the Sunshine Act.

Dated: June 17, 2008.
Susanne Bolton,
Committee Management Officer.

[FR Doc. E8-14054 Filed 6-20-08; 8:45 am]

BILLING CODE 7555-01-P